DEPARTMENT OF DEFENSE

Department of the Air Force

[Docket ID USAF-2012-0023]

Proposed Collection; Comment Request

AGENCY: United States Air Force Academy, Department of the Air Force, Department of Defense.

ACTION: Notice.

In compliance with Section 3506(c)(2)(A) of the Paperwork Reduction Act of 1995, the Department of the Air Force announces a reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 28, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: HQ USAFA/RRS, ATTN: Patty Edmond, 2304 Cadet Drive, Suite 2400, USAF Academy, CO 80840 or call 719-333-3358.

Title; Associated Form; and OMB Number:

Nomination for Appointment to the United States Military Academy, Naval Academy or Air Force Academy, DD FORM 1870 (previous OMB Control No. 0701-0026); United States Air Force Academy Candidate Writing Sample, USAFA Form 0-878 (previous OMB Control No. 0701-0147); United States Air Force Academy School Official's Evaluation of Candidate, USAFA Form 145 (previous OMB Control No. 0701-0152); United States Air Force Academy Candidate Personal Data Record, USAFA Form 146 (previous OMB Control No. 0701-0064), United States Air Force Academy Candidate Activities Record, USAFA Form 147 (previous OMB Control No. 0701-0063); United States Air Force Academy Request for Secondary School Transcript, USAFA Form 148 (previous OMB Control No. 0701-0066); and Air Force Academy PreCandidate Questionnaire, USAFA Form 149 (previous OMB Control No. 0701-0087); New OMB Control Number: 0701-TBD.

Needs and Uses:

DD FM 1870 is used to implement the provisions of Title X, U.S.C. 4342, 6953 and 32 CFR part 901. Members of Congress, the Vice President and Delegates to Congress and Resident Commissioner of Puerto Rico use this form to nominate constituents to the three DOD Academies, West Point, Annapolis and Air Force. Data required is supplied by the prospective nominees to Members of Congress. Eligibility requirements are outlined in AFI 36-2019, Appointment to the United States Air Force Academy.

USAFA Form 0-0878 is necessary in order to evaluate background and aptitude for commissioned service. This data allows the selection panel to evaluate the “whole person” concept.

USAFA Form 145 is necessary in order to provide a candidate opportunity to show through their English, Math, or other instructors that they can meet Air Force academic performance.

USAFA Form 146 is necessary in order to provide a candidate's family and personal background. This data also includes eligibility by verification of age, U.S. citizenship, law infractions, schooling beyond high school, previous active duty tours, and previous applications to service academies.

USAFA Form 147 is necessary in order to provide a candidate's participation in athletic and non-athletic extracurricular activities. Without this information it would be difficult to accurately determine a candidate's leadership abilities and physical stamina.

USAFA Form 148 is necessary in order to provide academic and school background data by a candidate's high school official. Without this information it would be difficult to accurately determine a candidate's academic abilities.

USAFA Form 149 is necessary in order to provide a candidate's initial screening information. Without this information it would be difficult to accurately determine if an initial applicant would be qualified to enter into the candidate phase of the process. Final USAF Academy selections could not be made if reviewing committees are not able to determine whether basic requirements have or have not been met.

Affected Public: Applicants to DoD Military Academies, Candidates for the Air Force Academy, High school instructors and counselors.

Annual Burden Hours: 117,570.

Number of Respondents: 58,785.

Responses Per Respondent: 1.

Average Burden Per Response: 2 hours.

Frequency: On occasion.

SUPPLEMENTARY INFORMATION:

Summary of Information Collection

The Department of Defense Form 1870, Nomination for Appointment to the United States Military Academy, Naval Academy and Air Force Academy, is used solely by legal nominating authorities who by Federal law are entitled to make appointments to the three service military academies. The nomination form allows for nominating authorities to select by checking one box as to which academy is being provided with the name of a nomination to be processed. Eligibility information concerning the nominees is information that is also included on the form. The nominating authority identifies himself/herself and must date and sign the form to make it a legally acceptable form. The form includes the three addresses of the service academies in order that the form may be submitted to the proper academy.

Respondents are candidates applying to the Air Force Academy, instructors of candidates, and their high school counselors. Information collection is necessary in order to determine which candidates have been nominated by their Congress person or Senator; to evaluate background and aptitude for commissioned service; to provide a candidate's participation in athletic and non-athletic extracurricular activities, family and personal background, and academic and school background data by a candidate's high school official. This data also includes eligibility by verification of age, U.S. citizenship, law infractions, schooling beyond high school, previous active duty tours, and previous applications to service academies. It is also necessary in order to provide a candidate opportunity to show through English, Math, or other instructors that they can meet Air Force academic performance. This data allows the selection panel to evaluate the “whole person” concept. Without this information it would be difficult to accurately determine if an initial applicant would be qualified to enter into the candidate phase of the process. It would also be difficult to accurately determine a candidate's leadership abilities, physical stamina, and academic abilities. Final USAF Academy selections could not be made if reviewing committees are not able to determine if basic requirements have or have not been met.

Dated: November 26, 2012.
Aaron Siegel,
Alternate OSD Federal Register Liaison Officer, Department of Defense.

[FR Doc. 2012-28859 Filed 11-28-12; 8:45 am]

BILLING CODE 5001-06-P